DEPARTMENT OF THE TREASURY

Submission for OMB Review; Comment Request

June 7, 2007.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before July 13, 2007 to be assured of consideration.

Internal Revenue Service (IRS)

OMB Number: 1545-XXXX.

Type of Review: New.

Title: 990-N Electronic Notice (e-Postcard).

Form: 990-N.

Description: Section 1223 of the Pension Protection Act of 2006 (PPA '06), enacted on August 17, 2006, amended Internal Revenue Code (Code) section 6033 by adding Code section 6033(i), which requires certain tax-exempt organizations to file an annual electronic notice (Form 990-N) for tax years beginning after December 31, 2006. These organizations are not required to file Form 990 (or Form 990-EZ) because their gross receipts are normally $25,000 or less.

Respondents: Not-for-profit institutions.

Estimated Total Burden Hours: 1,300 hours.

OMB Number: 1545-1610.

Type of Review: Revision.

Title: Annual Return/Report of Employee Benefit Plan.

Form: 5500.

Description: Form 5500 is an annual information return filed by employee benefit plans. The IRS uses this information to determine if the plan appears to be operating properly as required under the law or whether the plan should be audited.

Respondents: Businesses or other for-profit institutions.

Estimated Total Burden Hours: 2,173,483 hours.

OMB Number: 1545-2061.

Type of Review: Revision.

Title: Supplemental Attachment to Schedule M-3.

Form: 8916-A.

Description: The Form 8916-A is a detailed schedule that reconciles the amount of the cost of goods sold, interest income and interest expense reported on Schedule M-3 for the Form 1065, Form 1120, 1120-S, 1120-L, or 1120-PC.

Respondents: Businesses or other for-profit institutions.

Estimated Total Burden Hours: 5,049,720 hours.

OMB Number: 1545-1287.

Type of Review: Extension.

Title: FI-3-91 (Final) Capitalization of Certain Policy Acquisition Expenses.

Description: Insurance companies that enter into reinsurance agreement must determine the amounts to be capitalized under those agreements consistently. The regulations provide elections to permit companies to shift the burden of capitalization for their mutual benefit.

Respondents: Businesses and other for-profit institutions.

Estimated Total Burden Hours: 2,070 hours.

OMB Number: 1545-0800.

Type of Review: Extension.

Title: Reg. 601.601 Rules and Regulations.

Description: Persons wishing to speak at a public hearing on a proposed rule must submit written comments and an outline within prescribed time limits, for use in preparing agendas and allocating time. Persons interested in the issuance, amendment, or repeal or a rule may submit a petition for this. IRS considers the petitions in its deliberations.

Respondents: Businesses, farms, and not-for-profit institutions.

Estimated Total Burden Hours: 900 hours.

OMB Number: 1545-0982.

Type of Review: Extension.

Title: LR-77-86 Temporary (TD 8124) Certain Elections Under the Tax Reform Act of 1986.

Description: These regulations establish various elections with respect to which immediate interim guidance on the time and manner of making the election is necessary. These regulations enable taxpayers to take advantage of the benefits of various Code provisions.

Respondents: Businesses and other for-profit institutions.

Estimated Total Burden Hours: 28,678 hours.

OMB Number: 1545-1443.

Type of Review: Extension.

Title: PS-25-94 (Final) Requirements to Ensure Collection of Section 2056A Estate Tax (TD 8686).

Description: The regulation provides guidance relating to the additional requirements necessary to ensure the collection of the estate tax imposed under Section 2056A(b) with respect to taxable events involving qualified domestic trusts (QDOT'S). In order to ensure collection of the tax, the regulation provides various security options that may be selected by the trust and the requirements associated with each option. In addition, under certain circumstances the trust is required to file an annual statement with the IRS disclosing the assets held by the trust.

Respondents: Individuals or households.

Estimated Total Burden Hours: 6,070 hours.

OMB Number: 1545-0042.

Type of Review: Extension.

Title: Application To Use LIFO Inventory Method.

Form: 970.

Description: Form 970 is filed by individuals, partnerships, trusts, estates, or corporations to elect to use the LIFO inventory method or to extend the LIFO method to additional goods. The IRS uses Form 970 to determine if the election was properly made.

Respondents: Businesses or other for-profit institutions.

Estimated Total Burden Hours: 24,800 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E7-11493 Filed 6-12-07; 8:45 am]

BILLING CODE 4830-01-P